DEPARTMENT OF TRANSPORTATION

Surface Transportation Board

[STB Docket No. AB-364 (Sub-No. 15X)]

Mid-Michigan Railroad, Inc.—Discontinuance of Service Exemption—in Kent and Ottawa Counties, MI

On February 11, 2009, Mid-Michigan Railroad, Inc. (MMRR) filed with the Board a petition under 49 U.S.C. 10502 for exemption from the provisions of 49 U.S.C. 10903 to discontinue service over a 6.94-mile line of railroad between milepost 159.5 at Grand Rapids (Walker) and milepost 166.44 at Marne, in Kent and Ottawa Counties, MI.¹ The line traverses United States Postal Service Zip Codes 49404, 49435, and 49544, and includes the stations of Grand Rapids and Marne.

¹ As part of a corporate family transaction, Grand Rapids Eastern Railroad, Inc. (GRE) was merged into MMRR in 1999. See RailTex, Inc., Mid-Michigan Railroad, Inc., Michigan Shore Railroad, Inc., and Grand Rapids Eastern Railroad, Inc.—Corporate Family Transaction, STB Finance Docket No. 33693 (STB served Jan. 20, 1999). GRE had leased the line from the Coopersville and Marne Railway Company Line (C&M) in 1997. See Grand Rapids Eastern Railroad, Inc.—Lease and Operation Exemption—Coopersville and Marne Railway Company Line, STB Finance Docket No. 33344 (STB served Feb. 10, 1997). C&M had acquired the line from the Central Michigan Railway Company in 1996. See Coopersville & Marne Railway Company—Acquisition and Operation Exemption—Central Michigan Railway Company, STB Finance Docket No. 32942 (STB served May 21, 1996).

MMRR states that the line does not contain federally granted rights-of-way. Any documentation in MMRR's possession will be made available promptly to those requesting it.

The interest of railroad employees will be protected by the conditions set forth in Oregon Short Line R. Co.—Abandonment—Goshen, 360 I.C.C. 91 (1979).

By issuing this notice, the Board is instituting an exemption proceeding pursuant to 49 U.S.C. 10502(b). A final decision will be issued by June 1, 2009.

Any offer of financial assistance (OFA) for subsidy under 49 CFR 1152.27(b)(2) will be due no later than 10 days after service of a decision granting the petition for exemption. Each OFA must be accompanied by a $1,500 filing fee. See 49 CFR 1002.2(f)(25).²

² Because this is a discontinuance proceeding and not an abandonment, trail use/rail banking and public use conditions are not appropriate. Similarly, no environmental or historic documentation is required under 49 CFR 1105.6(c)(2) and 1105.8.

All filings in response to this notice must refer to STB Docket No. AB-364 (Sub-No. 15X) and must be sent to: (1) Surface Transportation Board, 395 E Street, SW., Washington, DC 20423-0001; and (2) Louis E. Gitomer, 600 Baltimore Ave., Suite 301, Towson, MD 21204. Replies to the petition are due on or before March 23, 2009.

Persons seeking further information concerning discontinuance procedures may contact the Board's Office of Public Assistance, Governmental Affairs and Compliance at (202) 245-0238 or refer to the full abandonment and discontinuance regulations at 49 CFR part 1152. Questions concerning environmental issues may be directed to the Board's Section of Environmental Analysis (SEA) at (202) 245-0305. [Assistance for the hearing impaired is available through the Federal Information Relay Service (FIRS) at 1-800-877-8339.]

Board decisions and notices are available on our Web site at http://www.stb.dot.gov.

Decided: February 20, 2009.
By the Board, David M. Konschnik, Director, Office of Proceedings.
Jeffrey Herzig,
Clearance Clerk.

[FR Doc. E9-4034 Filed 3-2-09; 8:45 am]

BILLING CODE 4915-01-P